DEPARTMENT OF ENERGY

Office of Energy Efficiency and Renewable Energy

The SunShot Prize: Race to the Rooftops

AGENCY: Office of Energy Efficiency and Renewable Energy, Department of Energy.

ACTION: Notice of decision to suspend prize rules and intent to issue a modified draft rules document.

SUMMARY: The Department of Energy (DOE) gives notice of its decision to suspend, effective September 18th, 2014, competition rules for the SunShot Prize: Race to the Rooftop in order to broaden the scope of participation and better align competition rules with SunShot goals given that the U.S. solar market has already realized 60% of the SunShot price targets for 2020. Building on this success, DOE will continue to target aggressive scenarios for reducing costs and increasing access to solar technologies for American consumers. DOE intends to release an updated draft rules document of the SunShot Prize program no later than the end of this calendar year and remains committed to accelerating market innovation using a balanced program portfolio of funding opportunities, initiatives, and prize challenges.

DATES: The current rules of the SunShot Prize will be suspended effective September 18th, 2014. DOE intends to release a modified draft rules document of the SunShot Prize program no later than end of the calendar year.

ADDRESSES: Questions about the SunShot prize can be sent to:

• Email: sunshot.prize@ee.doe.gov.

• Mail: Dr. Elaine Ulrich, U.S. Department of Energy, Mailstop EE-4S, 1000 Independence Avenue, Washington DC, 20585.

FOR FURTHER INFORMATION CONTACT: Questions may be directed to Dr. Elaine Ulrich at (202) 287-1862 or by email at: sunshot.prize@ee.doe.gov.

SUPPLEMENTARY INFORMATION: The DOE's SunShot Initiative aims to make subsidy-free solar energy cost-competitive with conventional forms of energy by the end of the decade. In collaboration with industry, SunShot drives American innovation in manufacturing, engineering, and business through a series of programs designed to spark and promote market solutions to solar energy development and clean energy growth. Launched in September 2012, the SunShot Prize aims to spur the ingenuity of America's businesses and communities to make it faster, easier, and cheaper to install solar energy systems across the nation. This prize competition focuses on lowering barriers and reducing inefficiencies that prevent the rapid deployment of cost-effective solar energy solutions. DOE intends to reexamine the current competition rules in light of today's market needs and conditions, plans to broaden the scope of participation, and better align competition rules with SunShot goals. Despite tremendous progress in the U.S. solar market for the past two years, significant obstacles continue to hinder the public vested interest in lowering the cost of solar deployment. DOE remains committed to accelerating market innovation using the SunShot Prize program among other initiatives and funding opportunities. To learn more about the SunShot Initiative or the SunShot Prize, please visit: http://energy.gov/sunshot.

Dated: September 4, 2014.
Minh Le,
The SunShot Initiative, Director, Solar Energy Technologies Office, U.S. Department of Energy.

[FR Doc. 2014-22372 Filed 9-18-14; 8:45 am]

BILLING CODE 6450-01-P